DEPARTMENT OF THE INTERIOR

Bureau of Land Management

[UTU 42920]

Public Land Order No. 7689; Revocation of Secretarial Order Dated June 28, 1943; Utah

AGENCY: Bureau of Land Management, Interior.

ACTION: Public land order.

SUMMARY: This order revokes a Secretarial Order in its entirety, as it affects the remaining 160 acres of lands in Box Elder and Cache Counties, Utah, withdrawn from surface entry and mining on behalf of the Bureau of Reclamation for the Bear River Storage Project. The lands are no longer needed for reclamation purposes and this order will open the lands to surface entry and mining.

EFFECTIVE DATE: March 27, 2008.

FOR FURTHER INFORMATION CONTACT: Rhonda Flynn, BLM Utah State Office, 440 West 200 South, Suite 500, Salt Lake City, Utah 84101-1345, 801-539-4132.

SUPPLEMENTARY INFORMATION: The Project was never developed and the lands are no longer needed for reclamation purposes. The Bureau of Reclamation has requested the withdrawal revocation. Approximately 1,080 acres were originally withdrawn, but the Secretarial Order has since been partially revoked. A copy of the pertinent withdrawal orders containing a legal description of the lands involved is available from the BLM Utah State Office at the address above.

Order

By virtue of the authority vested in the Secretary of the Interior by Section 204 of the Federal Land Policy and Management Act of 1976, 43 U.S.C. 1714 (2000), it is ordered as follows:

1. The Secretarial Order dated June 28, 1943, which originally withdrew approximately 1,080 acres of lands from surface entry and mining and reserved them on behalf of the Bureau of Reclamation for the Bear River Storage Project, is hereby revoked in its entirety as to any remaining lands.

2. At 10 a.m. on March 27, 2008, the lands will be opened to the operation of the public land laws generally, subject to valid existing rights, the provisions of existing withdrawals, other segregations of record, and the requirements of applicable law. All valid applications received at or prior to 10 a.m. on March 27, 2008, shall be considered as simultaneously filed at that time. Those received thereafter shall be considered in the order of filing.

3. At 10 a.m. on March 27, 2008, the lands will be opened to location and entry under the United States mining laws, subject to valid existing rights, the provisions of existing withdrawals, other segregations of record, and the requirements of applicable law. Appropriation of any of the lands referenced in this order under the general mining laws prior to the date and time of restoration is unauthorized. Any such attempted appropriation, including attempted adverse possession under 30 U.S.C. 38 (2000), shall vest no rights against the United States. State law governs acts required to establish a location and to initiate a right of possession where not in conflict with Federal law. The Bureau of Land Management will not intervene in disputes between rival locators over possessory rights since Congress has provided for such determinations in local courts.

Dated: February 6, 2008.
C. Stephen Allred,
Assistant Secretary—Land and Minerals Management.

[FR Doc. E8-3608 Filed 2-25-08; 8:45 am]

BILLING CODE 4310-MN-P